DEPARTMENT OF COMMERCE

National Oceanic and Atmospheric Administration

RIN 0648-XD61

Marine Mammals; File No. 10080

AGENCY: National Marine Fisheries Service (NMFS), National Oceanic and Atmospheric Administration (NOAA), Commerce.

ACTION: Notice; issuance of permit.

SUMMARY: Notice is hereby given that Dr. Kathryn A. Ono, Department of Biological Sciences, University of New England, Biddeford, ME, has been issued a permit to conduct research on marine mammals.

ADDRESSES: The permit and related documents are available for review upon written request or by appointment in the following office(s):

Permits, Conservation and Education Division, Office of Protected Resources, NMFS, 1315 East-West Highway, Room 13705, Silver Spring, MD 20910; phone (301)713-2289; fax (301)427-2521; and

Northeast Region, NMFS, One Blackburn Drive, Gloucester, MA 01930-2298; phone (978)281-9300; fax (978)281-9394.

FOR FURTHER INFORMATION CONTACT: Tammy Adams or Jaclyn Daly, (301)713-2289.

SUPPLEMENTARY INFORMATION: On October 26, 2007, notice was published in the Federal Register (72 FR 60822) that a request for a permit to conduct scientific research on harbor seals (Phoca vitulina concolor) and grey seals (Halichoerus grypus) in the Gulf of Maine had been submitted by the above-named individual. The requested permit has been issued under the authority of the Marine Mammal Protection Act of 1972, as amended (16 U.S.C. 1361 et seq.), and the regulations governing the taking and importing of marine mammals (50 CFR part 216).

The permit authorizes capture, sampling, and marking activities related to: (1) assessing the state of harbor seal population health; (2) determining movement and diving patterns of weaned harbor seal pups; (3) comparing disease loads, survival, and behavior of rehabilitated harbor seal pups with wild pups; and (4) assessing behavior, population dynamics, and health of grey seals. The permit expires on December 31, 2012.

In compliance with the National Environmental Policy Act of 1969 (42 U.S.C. 4321 et seq.), a final determination has been made that the activity proposed is categorically excluded from the requirement to prepare an environmental assessment or environmental impact statement.

Dated: December 18, 2007.
Patrick Opay,
Acting Chief, Permits, Conservation and Education Division, Office of Protected Resources, National Marine Fisheries Service.

[FR Doc. E7-24942 Filed 12-21-07; 8:45 am]

BILLING CODE 3510-22-S